DEPARTMENT OF HOMELAND SECURITY

Coast Guard

33 CFR Part 117

[Docket No. USCG-2013-0678]

Drawbridge Operation Regulation Lake Washington, Seattle, WA

AGENCY: Coast Guard, DHS.

ACTION: Notice of deviation from drawbridge regulation.

SUMMARY: The Coast Guard has issued a temporary deviation from the operating schedule that governs the Evergreen Point Floating Bridge (State Route 520 across Lake Washington) at Seattle, WA. This deviation is necessary to accommodate the Seafair Air Show practice and event. This deviation allows the bridge to remain in the closed position to help minimize traffic congestion during the event.

DATES: This deviation is effective from 9:30 a.m. on August 1, 2013 to 3:30 p.m. August 4, 2013.

ADDRESSES: The docket for this deviation, [USCG-2013-0678] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Lieutenant Commander Steven M. Fischer, Thirteenth Coast Guard District Bridge Program Officer, telephone 206-220-7277, email Steven.M.Fischer2@uscg.mil. If you have questions on viewing the docket, call Barbara Hairston, Program Manager, Docket Operations, telephone 202-366-9826.

SUPPLEMENTARY INFORMATION: The Washington State Department of Transportation has requested that the draw span of the Evergreen Point Floating Bridge (State Route 520 across Lake Washington) remain closed to vessel traffic to facilitate safe passage of participants of the Seafair Airshow practice and event. Interstate 90 will be closed to road traffic during this time, which would divert road traffic onto the Evergreen Point Floating Bridge. The closure of the Evergreen Point Floating Bridge will further help minimize road traffic congestion resulting from the closure of Interstate 90. The Evergreen Point Floating Bridge provides three navigational openings for vessel passage, the movable floating span, subject to this closure, and two fixed navigational openings; one on the east end of the bridge and one on the west end. The fixed navigational opening on the east end of the bridge provides a horizontal clearance of 150 feet and a vertical clearance of 57 feet at mean high water. The opening on the west end of the bridge provides a horizontal clearance of 170 feet and a vertical clearance of 44 feet at mean high water. Vessels that are able to safely pass through the fixed navigational openings are allowed to do so during this closure period. Under normal conditions, during this time frame, the bridge operates in accordance with 33 CFR 117.1049(a) which states the bridge shall open on signal if at least two hours notice is given. This deviation period is from 9:30 a.m. on August 1, 2013 to 3:30 p.m. August 4, 2013. The deviation allows the floating draw span of the Evergreen Point Floating Bridge on Lake Washington to remain in the closed position and need not open for maritime traffic from 9:30 a.m. to 3:00 p.m. on August 1, 2013; 12:30 p.m. to 3:00 p.m. on August 2, 2013; 12:30 p.m. to 3:30 p.m. on August 3, 2013; and 12:30 p.m. to 3:30 p.m. on August 4, 2013. The bridge shall operate in accordance to 33 CFR 117.1049(a) at all other times. Waterway usage on the Lake Washington Ship ranges from commercial tug and barge to small pleasure craft. Mariners will be notified and kept informed of the bridge's operational status via the Coast Guard Notice to Mariners publication and Broadcast Notice to Mariners as appropriate. The draw span will be required to open, if needed, for vessels engaged in emergency response operations during this closure period.

In accordance with 33 CFR 117.35(e), the drawbridge must return to its regular operating schedule immediately at the end of the designated time period. This deviation from the operating regulations is authorized under 33 CFR 117.35.

Dated: July 24, 2013.
Daryl R. Peloquin,
Acting Bridge Administrator.

[FR Doc. 2013-18341 Filed 7-30-13; 8:45 am]

BILLING CODE 9110-04-P